NATIONAL CREDIT UNION ADMINISTRATION

Sunshine Act: Notice of Agency Meeting

TIME AND DATE: 10:00 a.m., Thursday, December 13, 2018

PLACE: Board Room, 7th Floor, Room 7047, 1775 Duke Street (All visitors must use Diagonal Road Entrance), Alexandria, VA 22314-3428

STATUS: Open

MATTERS TO BE CONSIDERED:

1. Final Report, NCUA Regulatory Reform Task Force.

2. Board Briefing, Blockchain and Distributed Ledger Technology.

3. NCUA Rules and Regulations, Technical Amendments.

CONTACT PERSON FOR MORE INFORMATION: Gerard Poliquin, Secretary of the Board, Telephone: 703-518-6304.

Gerard Poliquin,
Secretary of the Board.

[FR Doc. 2018-26819 Filed 12-6-18; 4:15 pm]

BILLING CODE 7535-01-P